DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons whose property and interests in property have been unblocked and who have been removed from the list of Specially Designated Nationals and Blocked Persons. Additionally, OFAC is publishing an update to the identifying information of a person currently included in the list of Specially Designated Nationals and Blocked Persons.

DATES: See Supplementary Information section for effective date(s).

FOR FURTHER INFORMATION CONTACT: OFAC: Associate Director for Global Targeting, tel: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List (SDN List) and additional information concerning OFAC sanctions programs are available on OFAC's website (https://www.treasury.gov/ofac).

Notice of OFAC Actions

On December 19, 2019, OFAC determined that the property and interests in property subject to U.S. jurisdiction of the following persons are unblocked, and they have been removed from the SDN List under the relevant sanctions authorities listed below.

Individuals

1. HERNANDEZ ORTEGA, Cesar Alejandro, c/o LIZZY MUNDO INTERIOR, Guadalajara, Mexico; c/o CUMBRES SOLUCIONES INMOBILIARIAS S.A. DE C.V., Zapopan, Jalisco, Mexico; DOB 28 Oct 1975; POB Guadalajara, Jalisco, Mexico; Passport 140022479 (Mexico); C.U.R.P. HEOC751028HJCRRS09 (Mexico) (individual) [SDNT].

2. ZARATE MORENO, Rutdy Alirio (a.k.a. “RUNCHO”), c/o IMPORTACIONES Y EXPORTACIONES ZAFIRO S.L., Madrid, Spain; Calle 68 No. 60-10, Bogota, Colombia; DOB 19 Mar 1968; Cedula No. 80368114 (Colombia); Matricula Mercantil No 513926 (Colombia) (individual) [SDNTK].

3. ESPITIA ORTIZ, Mauricio Arturo (a.k.a. SPITIA, Mauricio), c/o ESVA S.C.S., Cali, Colombia; c/o M S CONSTRUCTORES LTDA., Cali, Colombia; c/o SPITIA VALENCIA LTDA., Cali, Colombia; c/o ARQUITECTOS UNIDOS LTDA., Cali, Colombia; Carrera 25 F No. 7-15 Oeste, Cali, Colombia; Carrera 42 No. 8-36, Cali, Colombia; Spain; c/o GRUPO INVERSOR PRINCIPE DE VERGARA S.L., Madrid, Spain; Calle Ayala 64 3 Iz., Madrid 28001, Spain; DOB 29 Dec 1959; POB Barranquilla, Colombia; Cedula No. 16634827 (Colombia); Passport AJ424421 (Colombia) (individual) [SDNT].

4. GRAJALES POSSO, Maria Nancy, c/o CASA GRAJALES S.A., La Union, Valle, Colombia; c/o FREXCO S.A., La Union, Valle, Colombia; c/o GRAJALES S.A., La Union, Valle, Colombia; c/o INVERSIONES LOS POSSO LTDA. S.C.S., La Union, Valle, Colombia; c/o PLAZA REAL LTDA., Cali, Colombia; Cedula No. 29613013 (Colombia) (individual) [SDNT].

5. GALLEGO VALENCIA, John Jairo (a.k.a. “DON JOTA”; a.k.a. “FREDERICO”), c/o LAVADERO EL CASTILLO, Medellin, Colombia; c/o COMERCIALIZADORA DE CAPITALES LIMITADA, Medellin, Colombia; c/o TECNICAR DIAGNOSTICENTRO S.A., Envigado, Colombia; DOB 30 Jul 1950; POB Medellin, Colombia; Cedula No. 70126377 (Colombia); Passport AC312064 (Colombia) (individual) [SDNT].

6. ROSALES DIAZ, Hector Emilio, c/o CONCRETOS CALI S.A., Cali, Colombia; c/o INVERSIONES GEMINIS S.A., Cali, Colombia; c/o ADMINISTRACION INMOBILIARIA BOLIVAR S.A., Cali, Colombia; c/o INVERSIONES VILLA PAZ S.A., Cali, Colombia; c/o INVERSIONES EL PENON S.A., Cali, Colombia; c/o INDUSTRIA AVICOLA PALMASECA S.A., Cali, Colombia; c/o CONSTRUCTORA DIMISA LTDA., Cali, Colombia; c/o MERCAVICOLA LTDA., Cali, Colombia; c/o COMPANIA ADMINISTRADORA DE VIVIENDA S.A., Cali, Colombia; DOB 01 Apr 1955; Cedula No. 16588924 (Colombia) (individual) [SDNT].

7. MOSQUERA PEREZ, Victor Alfonso (a.k.a. “NEGRO MOSQUERA”), Colombia; DOB 14 Sep 1984; POB Turbo, Antioquia, Colombia; citizen Colombia; Cedula No. 8358401 (individual) [SDNTK] (Linked To: LOS URABENOS).

8. PLATA MCNULTY, Jorge Alberto; DOB 01 Jun 1968; POB Panama; citizen Panama; Cedula No. 8-294-311 (Panama); Passport 1412335 (Panama) (individual) [SDNTK] (Linked To: EUROCAMBIO INVESTMENT S.A.; Linked To: THEA HOLDING & CO., INC.; Linked To: EURO FINANCING, CORP.; Linked To: GCH & SONS CO., INC.; Linked To: BEAUTY STATION, S.A.; Linked To: INVERSIONES TROL PANAMA S.A.; Linked To: INVERSIONES OMEGA INTERNACIONAL S.A.; Linked To: INMOBILIARIA DAVITOV S.A.; Linked To: BERLIN INDUSTRIES, CORP.).

9. PEREZ FABREGA, Margarita Ines; DOB 14 Aug 1976; POB Panama; citizen Panama; Cedula No. 9-700-1662 (Panama); Passport 1412336 (Panama) (individual) [SDNTK] (Linked To: EUROCAMBIO INVESTMENT S.A.; Linked To: GCH & SONS CO., INC.; Linked To: THEA HOLDING & CO., INC.; Linked To: BEAUTY STATION, S.A.; Linked To: BERLIN INDUSTRIES, CORP.; Linked To: INVERSIONES TROL PANAMA S.A.; Linked To: INVERSIONES OMEGA INTERNACIONAL S.A.).

10. CHEAITELLI SAHELI, Guiseppe Ali; DOB 10 Feb 1966; POB Maicao, La Guajira, Colombia; Cedula No. 84046545 (Colombia) (individual) [SDNTK] (Linked To: THEA HOLDING & CO., INC.; Linked To: C M F INTERNACIONAL, INC.; Linked To: GCH & SONS CO., INC.; Linked To: POLYTON (ASIA) LIMITED).

11. LIBIEN TELLA, Naim, Paseo San Carlos 319, Fracc. San Carlos, Metepec, Mexico 52140, Mexico; Vicente Guerrero 304, Toluca, Mexico 50110, Mexico; Paseo Tollocan 613 Oriente, Colonia Valle Verde, Toluca, Mexico, Mexico; DOB 30 May 1970; POB Toluca, Mexico, Mexico; R.F.C. LITN-700530-6N0 (Mexico); C.U.R.P. LITN700530HMCBLM01 (Mexico); I.F.E. LBTLNM70053015000 (Mexico) (individual) [SDNTK] (Linked To: AEROLINEAS AMANECER, S.A. DE C.V.; Linked To: DIARIO AMANECER; Linked To: UNOMASUNO; Linked To: VALGO GRUPO DE INVERSION S.A. DE C.V.).

12. BERMUDEZ DURAN, Felipe, Camino a San Mateo 41 Edif. Mackenzie—1003, Lomas Verdes, Naucalpan, Estado de Mexico C.P. 53020, Mexico; Puerto de Palo No. 128, Col. Residencial Colon, Toluca, Estado de Mexico C.P. 50120, Mexico; DOB 03 Jul 1988; R.F.C. BEDF880703 (Mexico); C.U.R.P. BEDF880703HDFRRL09 (Mexico) (individual) [SDNT].

13. GALLON HENAO, Pedro David; DOB 12 Aug 1970; POB Medellin, Colombia; Cedula No. 98551360 (Colombia) (individual) [SDNTK].

Entities

1. NAVIERA MARITIMA DE AROSA, S.A., Paseo de Pereda 36, Apartado 141, Santander 39004, Spain [CUBA].

2. IMPORTACIONES Y EXPORTACIONES ZAFIRO S.L., Calle Gran Via, 31, Madrid 28013, Spain; C.I.F. B83065458 (Spain) [SDNTK].

3. ARQUITECTOS UNIDOS LTDA., Calle 22N No. 5A-75, Cali, Colombia; NIT # 805022512-4 (Colombia) [SDNT].

4. ESVA S.C.S. (a.k.a. FLEXX GYM), Carrera 42 No. 8-36, Cali, Colombia; NIT # 805019977-4 (Colombia) [SDNT].

5. GRUPO INVERSOR PRINCIPE DE VERGARA S.L., Calle Jarilla, 5—Pis 4 B, Madrid 28043, Spain; C.I.F. B84758374 (Spain) [SDNT].

6. M S CONSTRUCTORES LTDA., Calle 22N No. 5AN-75, Cali, Colombia; NIT # 800206430-1 (Colombia) [SDNT].

7. SPITIA VALENCIA LTDA., Calle 9 No. 44-59, Cali, Colombia; NIT # 805006598-1 (Colombia) [SDNT].

8. PLAZA REAL LTDA., Avenida 4 Oeste No. 6-103, Cali, Colombia; NIT # 890331686-1 (Colombia) [SDNT].

9. COMERCIALIZADORA DE CAPITALES LIMITADA, Carrera 48C No. 15 Sur-68, Medellin, Colombia; Carrera 43C No. 70-73, Piso 2, Medellin, Colombia; NIT # 811032525-4 (Colombia) [SDNT].

10. TECNICAR DIAGNOSTICENTRO S.A. (f.k.a. TECNICAR DIAGNOSTICENTRO E.U.), Carrera 48 No. 25AA Sur-13 Barrio Las Vegas, Envigado, Colombia; NIT # 811046795-7 (Colombia) [SDNT].

11. DE EXPOMINERIA S.A.S. (a.k.a. DE EXPOMINERIA S.A.), Calle 40, 81 a 15, Medellin, Colombia; NIT # 900328871-2 (Colombia) [SDNTK].

12. JOYERIA MVK, Calle 100 # 10-29, Turbo, Antioquia, Colombia; NIT # 8358401-7 (Colombia) [SDNTK].

13. C M F INTERNACIONAL, INC., Panama; RUC # 669832-1-462619 (Panama) [SDNTK].

14. GCH & SONS CO., INC. (a.k.a. GCH AND SONS CO. INC.), Panama City, Panama; RUC # 1164157-1-574556 (Panama) [SDNTK].

15. POLYTON (ASIA) LIMITED, 20-F China Overseas Building, 139 Hennesy Road, Wan Chai, Hong Kong; Business Registration Document # 38365991 (Hong Kong) [SDNTK].

16. THEA HOLDING & CO., INC. (a.k.a. THEA HOLDING AND CO., INC.), Panama; RUC # 1166577-1-575203 (Panama) [SDNTK].

17. AEROLINEAS AMANECER, S.A. DE C.V. (a.k.a. AEROAMANECER), Hangar 6 Zona C., Aviacion Gral. S/N, Toluca, Mexico 50200, Mexico; Paseo Tollocan 802 Poniente, Toluca de Lerdo, Estado de Mexico 50000, Mexico; Folio Mercantil No. 3613-17 (Mexico) [SDNTK].

18. DIARIO AMANECER, Paseo Tollocan 613 Ote., Col. Valle Verde, Toluca, Estado de Mexico C.P. 50130, Mexico; Gabino Barreda No. 86, Col. San Rafael, Del. Cuauhtemoc, Mexico, Distrito Federal C.P. 06470, Mexico; website www.diarioamanecer.com.mx [SDNTK].

19. UNOMASUNO (a.k.a. UNO MAS UNO), Gabino Barreda No. 86, Col. San Rafael, Del. Cuauhtemoc, Mexico, Distrito Federal C.P. 06470, Mexico; website www.unomasuno.com.mx [SDNTK].

20. GRUPO MPV, Km 14.1 Carretera El Salvador, Centro Comercial Paseo San Sebastian Local 92, Guatemala City, Guatemala; Registration ID 55544 (Guatemala) [SDNTK].

Additionally, on December 19, 2019, OFAC updated the SDN List for the following person, whose property and interests in property continue to be blocked under the relevant sanctions authority listed below.

Individual

From

MARTINEZ LASSO, Vielka Judith; DOB 09 Nov 1967; POB El Higo, San Carlos, Panama; Cedula No. 8-283-646 (Panama) (individual) [SDNTK] (Linked To: THEA HOLDING & CO., INC.; Linked To: INVERSIONES OMEGA INTERNACIONAL S.A.; Linked To: GCH & SONS CO., INC.; Linked To: EURO FINANCING, CORP.; Linked To: EUROCAMBIO INVESTMENT S.A.; Linked To: INVERSIONES TROL PANAMA S.A.; Linked To: EUROCAMBIO, S.A.; Linked To: BEAUTY STATION, S.A.).

To

MARTINEZ LASSO, Vielka Judith; DOB 09 Nov 1967; POB El Higo, San Carlos, Panama; Cedula No. 8-283-646 (Panama) (individual) [SDNTK] (Linked To: INVERSIONES OMEGA INTERNACIONAL S.A.; Linked To: EURO FINANCING, CORP.; Linked To: EUROCAMBIO INVESTMENT S.A.; Linked To: INVERSIONES TROL PANAMA S.A.; Linked To: EUROCAMBIO, S.A.; Linked To: BEAUTY STATION, S.A.).

Dated: December 19, 2019.
Gregory T. Gatjanis,
Associate Director, Office of Global Targeting, Office of Foreign Assets Control.

[FR Doc. 2019-27821 Filed 12-23-19; 8:45 am]

BILLING CODE 4810-AL-P